DEPARTMENT OF TRANSPORTATION

Federal Motor Carrier Safety Administration

49 CFR Part 393

[Docket No. FMCSA-2010-0186]

RIN-2126-AB27

Parts and Accessories Necessary for Safe Operation: Antilock Brake Systems

AGENCY: Federal Motor Carrier Safety Administration, DOT.

ACTION: Direct final rule; confirmation of effective date.

SUMMARY: The Federal Motor Carrier Safety Administration (FMCSA) confirms the effective date of the direct final rule titled “Parts and Accessories Necessary for Safe Operation: Antilock Brake Systems,” published on September 21, 2010, in the Federal Register (75 FR 57393). This rule made permanent the existing requirement in the Federal Motor Carrier Safety Regulations that each trailer with an antilock brake system be equipped with an external malfunction indicator lamp.

DATES: This rule is effective November 22, 2010.

ADDRESSES: The docket for this rulemaking (FMCSA-2010-0186) is available for inspection at http://www.regulations.gov. If you do not have access to the Internet, you may also view the docket by visiting the Docket Management Facility in Room W12-140 on the ground floor of the Department of Transportation West Building, 1200 New Jersey Avenue, SE., Washington, DC 20590, between 9 a.m. and 5 p.m. e.t., Monday through Friday, except Federal holidays.

FOR FURTHER INFORMATION CONTACT: If you have questions on this rule, e-mail or call Mr. Michael Huntley, Chief, Vehicle and Roadside Operations Division (MC-PSV), Office of Bus and Truck Standards and Operations, phone (202) 366-4325, e-mail michael.huntley@dot.gov.

SUPPLEMENTARY INFORMATION: On September 21, 2010, FMCSA published a direct final rule entitled “Parts and Accessories Necessary for Safe Operation: Antilock Brake Systems” in the Federal Register (75 FR 57393). This direct final rule amends 49 CFR Part 393 by requiring that each trailer with an anitlock brake system be equipped with an external malfunction indicator lamp. FMCSA used the Agency's direct final rule procedures (75 FR 29915, May 28, 2010) because it was a routine and non-controversial amendment, and the Agency did not expect any adverse comments. The direct final rule advised the public that unless a written adverse comment, or a written notice of intent to submit such an adverse comment, was received by October 21, 2010, the Agency would provide notice confirming the effective date. Because the Agency did not receive any comments to the docket by October 21, 2010, the direct final rule will become effective November 22, 2010.

Issued on: October 27, 2010.
Larry W. Minor,
Associate Administrator for Policy.

[FR Doc. 2010-27799 Filed 11-2-10; 8:45 am]

BILLING CODE 4910-EX-P